DEPARTMENT OF TRANSPORTATION

Federal Motor Carrier Safety Administration

[Docket No. FMCSA-2018-0346]

Safe Driver Apprenticeship Pilot Program To Allow Persons Ages 18, 19, and 20 To Operate Commercial Motor Vehicles in Interstate Commerce

AGENCY: Federal Motor Carrier Safety Administration (FMCSA), Department of Transportation (DOT).

ACTION: Notice and establishment of pilot program.

SUMMARY: On September 10, 2020, FMCSA proposed a pilot program to allow persons ages 18, 19, and 20 to operate commercial motor vehicles (CMVs) in interstate commerce. That pilot was never implemented. However, the Infrastructure Investment and Jobs Act (IIJA), which was signed into law on November 15, 2021, requires FMCSA to establish a pilot program that would allow employers to establish an apprenticeship program for certain 18-, 19-, and 20-year-old drivers to operate commercial vehicles in interstate commerce. This notice addresses the comments received on the September 10, 2020, notice and provides the details on the establishment of the Safe Driver Apprenticeship Pilot Program required by the IIJA.

FOR FURTHER INFORMATION CONTACT: Ms. Nikki McDavid, Commercial Driver's License Division, Federal Motor Carrier Safety Administration, 1200 New Jersey Avenue SE, Washington, DC 20590-0001, nikki.mcdavid@dot.gov, (202) 366-0831. If you have questions about viewing or submitting material to the docket, call DOT Dockets Operations, (202) 366-9826.

SUPPLEMENTARY INFORMATION:

I. Definitions

For the purposes of the Safe Driver Apprenticeship Pilot Program, FMCSA is using the following definitions, as prescribed in section 23022 of IIJA:

Apprentice—An individual who is under the age of 21 and holds a commercial driver's license (CDL).

Commercial driver's license (CDL)—A license issued by a State to an individual authorizing the individual to operate a class of CMV.

Commercial motor vehicle (CMV)—Any self-propelled or towed motor vehicle used on a highway in interstate commerce to transport passengers or property when the vehicle—(1) has a gross vehicle weight rating or gross combination weight rating, or gross vehicle weight or gross combination weight, of 4,536 kg (10,001 pounds) or more, whichever is greater; or (2) is designed or used to transport more than 8 passengers (including the driver) for compensation; or (3) is designed or used to transport more than 15 passengers, including the driver, and is not used to transport passengers for compensation; or (4) is used in transporting material found by the Secretary of Transportation (the Secretary) to be hazardous under 49 U.S.C. 5103 and transported in a quantity requiring placarding under regulations prescribed by the Secretary under 49 CFR, subtitle B, chapter I, subchapter C.

Driving time—All time spent at the driving controls of a CMV in operation.

Experienced driver—An individual who

1. Is not younger than 26 years of age;

2. Has held a commercial driver's license for the 2-year period ending on the date on which the individual serves as an experienced driver;

3. During the 2-year period ending on the date on which the individual serves as an experienced driver, has had no

i. preventable accidents reportable to the Department; or

ii. pointed moving violations; and

4. Has a minimum of 5 years of experience driving a CMV in interstate commerce.

On-duty time—All time from the time a driver begins to work or is required to be in readiness to work until the time the driver is relieved from work and all responsibility for performing work. On-duty time shall include:

1. All time at a plant, terminal, facility, or other property of a motor carrier or shipper, or on any public property, waiting to be dispatched, unless the driver has been relieved from duty by the motor carrier;

2. All time inspecting, servicing, or conditioning any CMV at any time;

3. All driving time as defined in the term driving time;

4. All time in or on a CMV, other than:

i. Time spent resting in or on a parked vehicle, except as otherwise provided in § 397.5;

ii. Time spent resting in a sleeper berth; or

iii. Up to 3 hours riding in the passenger seat of a property-carrying vehicle moving on the highway immediately before or after a period of at least 7 consecutive hours in the sleeper berth;

5. All time loading or unloading a CMV, supervising, or assisting in the loading or unloading, attending a CMV being loaded or unloaded, remaining in readiness to operate the CMV, or in giving or receiving receipts for shipments loaded or unloaded;

6. All time repairing, obtaining assistance, or remaining in attendance upon a disabled CMV;

7. All time spent providing a breath sample or urine specimen, including travel time to and from the collection site, to comply with the random, reasonable suspicion, post-crash, or follow-up testing required by part 382 when directed by a motor carrier;

8. Performing any other work in the capacity, employ, or service of, a motor carrier; and

9. Performing any compensated work for a person who is not a motor carrier.

Pointed moving violation—A violation that results in points being added to the license of a driver, or a similar comparable violation, as determined by the Secretary.

II. Legal Basis

Subject to limited exceptions for farm vehicle drivers of articulated CMVs (49 CFR 391.67) and private (non-business) motor carriers of passengers (49 CFR 391.68), drivers of CMVs engaged in interstate commerce must be at least 21 years of age, whether or not operation of the CMV requires a CDL (49 CFR 391.11(b)(1)).

Under 49 U.S.C. 31315 and 31136(e), the Secretary has authority to grant waivers and exemptions from the Federal Motor Carrier Safety Regulations (FMCSRs) and to conduct pilot programs in which one or more exemptions are granted to allow for the testing of innovative alternatives to certain FMCSRs. FMCSA must publish in the Federal Register a detailed description of each pilot program, including the exemptions being considered, and provide notice and an opportunity for public comment before the effective date of the program. The Agency is required to ensure that the safety measures in the pilot programs are designed to achieve a level of safety that is equivalent to, or greater than, the level of safety that would be achieved through compliance with the safety regulations. The maximum duration of a pilot program is 3 years. The regulatory standards for pilot programs are codified at 49 CFR part 381, subparts D and E. At the conclusion of each pilot program, FMCSA must report to Congress its findings, conclusions, and recommendations, including suggested amendments to laws and regulations that would enhance motor carrier, CMV, and driver safety, and improve compliance with the FMCSRs.

Section 23022 of IIJA requires that the Secretary establish a pilot program allowing employers to establish apprenticeship programs that would enable 18-, 19-, and 20-year-old drivers with CDLs to operate a CMV in interstate commerce. Under this same section, the Secretary must establish the pilot program not later than 60 days after the date of enactment of IIJA.

III. Discussion

FMCSA must publish in the Federal Register a detailed description of each pilot program, including the exemptions being considered, and provide notice and an opportunity for public comment before the effective date of the program. On September 10, 2020, FMCSA published a Federal Register notice proposing the requirements of a younger driver pilot program, including the exemptions being considered, and provided the public the opportunity to comment. The exemptions identified in that notice were relief from the effect of the intrastate only (or “K”) restriction that would appear on a CDL under 49 CFR 383.153(a)(10)(vii) and an exemption from the requirement that a CMV driver operating in interstate commerce be at least 21 years of age under 49 CFR 391.11(b)(1). On November 15, 2021, IIJA, commonly referred to as the Bipartisan Infrastructure Law (BIL), was signed into law. Section 23022 of the BIL requires FMCSA to establish a pilot program that would allow motor carriers to begin an apprenticeship program as outlined in the BIL. The apprenticeship program must consist of two probationary periods, one for 120 hours and the other for 280 hours, each of which includes minimum hours of driving time with an experienced driver and performance benchmarks. In addition, the CMVs to be operated during the pilot program must be equipped with specific vehicle safety technologies. Additional requirements can be found later in this notice.

The pilot program proposed in the September 2020 Federal Register notice and the apprenticeship pilot program required under section 23022 of the BIL are substantially the same. Both call for two probationary periods, one for 120 hours and the other for 280 hours, and specific vehicle safety technologies. Additionally, the exemptions required for this pilot program are the same as those identified in the September 2020 notice. Because of the similarity between the pilot program proposed in September of 2020 and the requirements for the pilot program mandated by section 23022 of the BIL, FMCSA has determined that the September 2020 notice, and the comments received thereon, can satisfy the notice and comment requirement from 49 CFR 381.500(d). FMCSA summarizes the comments received on the September 2020 notice below.

IV. Discussion of Comments

In the September 10, 2020, Federal Register notice, FMCSA outlined its proposed pilot program and requested comments on any additional safeguards, the ability to obtain enough drivers, the vehicle technology requirements, limits to the distance apprentices can operate, data collection burdens, and limits on driver participation that FMCSA should consider in developing the pilot program requirements.

FMCSA received 201 comments to the docket, of which 10 were duplicate submissions. Of the 191 distinct submissions, 127 commenters favored the proposal, while 50 opposed it. Twenty members of Congress submitted a letter to the docket supporting the program. Other commenters remained neutral, offered conditional support, provided responses to the questions posed in the notice, or offered other suggestions. More than 139 individuals and 62 organizations commented.

The organizations that favored the pilot program included the American Trucking Associations, Commercial Vehicle Training Association, International Foodservice Distributors Association, National Association of Chemical Distributors, National Grocer Association, National Retail Federation, the Port Authority of New York and New Jersey, and the Truckload Carriers Association. In addition, numerous private citizens, motor carriers, training schools, State trucking associations, State Drivers Licensing Agencies, and other professional trade associations offered full or conditional support for the initiation of the younger driver pilot program proposed in the September 2020 Federal Register notice.

Commenters including the American Association of Motor Vehicle Administrators, Commercial Vehicle Safety Alliance, Insurance Institute for Highway Safety, and several motor carriers, private citizens, and other professional trade associations asked for clarification, provided data, and offered recommendations.

Those opposing the initiation of the younger driver pilot program included Advocates for Highway and Auto Safety, Citizens for Reliable and Safe Highways, the National Safety Council, National Transportation Safety Board, the Owner-Operator Independent Drivers Association, Parents Against Tired Truckers, and the Truck Safety Coalition. These opponents focused on safety, noting that younger drivers are more distracted and have higher rates of crashes, and cited the Centers for Disease Control and Prevention, which says that teenagers are unable to correctly analyze dangerous situations.

In addition, opponents also mentioned that the driver age should be raised to 25 years old and that younger drivers will not be able to handle differing conditions that exist across the country, such as weather, terrain, and varying laws.

Public Comments on 2020 Notice

The 2020 Federal Register notice asked several questions related to the additional safeguards, the ability to obtain enough drivers, the vehicle technology requirements, limits to the distance apprentices may operate, data collection burdens, and limits on driver participation.

Additional safeguards. FMCSA asked the public whether it should consider any additional safeguards to ensure that the pilot program provides an equivalent level of safety to the regulations without the age exemption. Most commenters that provided feedback on the question felt that no additional safeguards would be needed. The commenters that recommended specific safeguards cited behavior tests, pre-program Commercial Learner's Permit (CLP) skills test, added training hours, recording devices, and additional insurance. Section 23022 of the BIL establishes detailed safeguards that should be included as part of the pilot program for driver apprentices, some of which were suggested by commenters (such as recording devices), and as such FMCSA is adopting these as part of the Safe Driver Apprenticeship Pilot Program.

Control group drivers. FMCSA asked the public if carriers would be able to obtain enough drivers to serve in the control group. The commenters that provided feedback on the question believed that carriers should be able to obtain enough drivers for the control group. Some commenters did mention that small carriers may find it difficult to find control group drivers. FMCSA has decided to not collect data on a specific control grop and will instead utilize comparison data on current CMV drivers, including both intrastate and interstate.

Vehicle technology requirements. FMCSA asked whether the technology requirements proposed for the pilot program would limit participation by smaller companies. The majority of commenters that provided feedback did believe that the technology requirements may limit smaller motor carriers from participating in the pilot program. One commenter felt that although the technology requirements may be costly initially, as technology becomes more available the costs will go down over time. FMCSA acknowledges that the requirements may limit smaller company participation, but as they are now required by section 23022 of the BIL, they must be included. FMCSA will take this fact into consideration when it analyzes the data and completes its final report on the pilot.

Distance limits. FMCSA asked whether it should limit the distance that pilot program participants be allowed to operate. The majority of commenters that provided feedback on the question did not believe that the FMCSA should limit the distance a pilot program participant can operate. One commenter felt that a distance restriction would defeat the purpose of the pilot and would not allow for a true comparison in the data for the program. Section 23022 does not include limitations on the distance an apprentice can travel. FMCSA has determined that it will not add such limitations to the pilot program for the same reasons identified by the majority of the commenters.

Data collection efforts. FMCSA asked if the data collection efforts proposed would be so burdensome for carriers as to discourage their participation. The commenters that responded to this question were split on whether the data collection efforts would be burdensome. Some felt that although the data collection is burdensome, it would be manageable and that most carriers have basic systems in place that would help with the data collection. FMCSA is aware of the information collection burden this pilot program creates (see discussion below), but determined that the reporting is necessary to inform the final report on the pilot program.

Participation limits. FMCSA asked whether it should limit participation to drivers who have not been involved in a preventable crash. The commenters that responded to this question were split on this question. Those that felt FMCSA should not limit participation agreed that the limit would improve the safety of the program but would skew the data. FMCSA will review the records of proposed apprentice drivers to ensure they do not present a safety risk as outlined below in the pilot program requirements section. FMCSA will account for any resulting skew in the data collected.

V. Pilot Program Requirements and Procedures

Information Collection Approval

On January 7, 2022, and in accordance with the Paperwork Reduction Act (PRA) of 1995, FMCSA requested the Office of Management and Budget (OMB) grant emergency clearance for the new information collection titled, “Safe Driver Apprenticeship Pilot Program.” (87 FR 1001). That notice summarized the expected data collection burdens on participants in the pilot program. Once emergency approval is granted, FMCSA will seek OMB approval for the full 3-year period using the usual PRA approval process, which will allow for both a 60-day and a 30-day comment period for the public.

Announcement of Safe Driver Apprenticeship Pilot Program

Once implemented, FMCSA will publish, on the Agency's website at www.fmcsa.dot.gov, an announcement that applications are being accepted for participation in the pilot program. The website will also provide links to the application forms and other helpful information for motor carriers and drivers interested in participating in the pilot program.

Motor Carriers Needed

Section 23022 of BIL requires that no more than 3,000 apprentices will participate in the Safe Driver Apprenticeship Pilot Program at any one time. For the purposes of determining paperwork burden estimates, FMCSA assumed a maximum of 1,000 participating motor carriers that would hire at least 3,000 apprenticeship pilot program participants. FMCSA recognizes additional apprentices will be needed to account for turnover due to drivers choosing to leave the program, drivers not progressing through the probationary periods, and drivers aging out of the program. The length of time during which replacement apprentices will be added will be determined by FMCSA based on the statistical and administrative needs of the pilot program data collection plan.

The pilot program anticipates the results/data will allow for conclusions within a confidence level of 0.95 (i.e., significance level of 0.05) and statistical power of 80 percent.

Motor Carrier Requirements

Motor carriers that would like to participate in the Safe Driver Apprenticeship Pilot Program must complete an application for participation (see additional details below) and submit monthly data on an apprentice's driver activity (e.g., vehicle miles traveled, duty hours, driving hours, off-duty time, or breaks), safety outcomes (e.g., crashes, violations, and safety-critical events), and any additional supporting information (e.g., onboard monitoring systems or investigative reports from previous crashes). In addition, carriers will be required to notify FMCSA within 24 hours of: (1) Any injury or fatal crash involving an apprentice; (2) an apprentice receiving an alcohol-related citation in any vehicle (e.g., driving under the influence or driving while intoxicated); (3) an apprentice choosing to leave the pilot program; (4) an apprentice leaving the carrier; or (5) an apprentice failing a random or post-crash drug/alcohol test.

In addition to meeting the the requirements established in section 23022 of BIL for an apprenticeship pilot program, carriers must register an apprenticeship program with the U.S. Department of Labor (DOL). While it is not a requirement that carriers become a registered apprenticeship program prior to applying to FMCSA's pilot program, FMCSA notes that interested carriers may want to work with DOL while FMCSA is finalizing its program and before the application period for FMCSA's pilot program is opened. Additionally, carriers will need to verify that proposed apprentices meet all other requirements to participate.

Approved carriers will be publicly announced on the Agency's website to encourage potential apprentices to apply for employment directly with the identified carriers. Approved carriers will be able to assist apprentices (whom they employ) with completion of their application and participation agreement.

Approved motor carriers must ensure that they hire apprentices that meet the requirements in the “Apprentices” portion of this Federal Register notice. If at any time while participating in the pilot program, an apprentice is disqualified for a major offense, serious traffic violation, railroad-highway grade crossing violation, or violation of an out-of-service order, as outlined in 49 CFR 383.51 of the FMCSRs, the employer must immediately notify FMCSA and remove the apprentice from the program.

Before an approved motor carrier can allow an apprentice to operate under the Safe Driver Apprenticeship Pilot Program, FMCSA will review the driver's safety performance history against its systems and will issue an exemption for each driver. The exemption allows the driver to operate in interstate commerce while participating in the pilot program despite being under 21 and having a “K” restriction on their CDL. An apprentice may not operate in interstate commerce without the exemption notice.

Each motor carrier accepted into the pilot program must agree to comply with all pilot program procedures and requirements, including completing required forms, obtaining driver consent, and attending information sessions.

Motor Carrier Qualifications

When FMCSA announces the implementation of the Safe Driver Apprenticeship Pilot Program, interested motor carriers will be required to complete the application form.

To qualify for participation, the motor carrier must meet the following standards:

1. Must have proper operating authority, if required, and registration;

2. Must have at least the minimum levels of financial responsibility required by the FMCSRs;

3. Must not be a high or moderate risk motor carrier as defined in the Agency's Federal Register notice titled, “Notification of Changes to the Definition of a High Risk Motor Carrier and Associated Investigation” published on March 7, 2016 (81 FR 11875);

4. Must not have a conditional or unsatisfactory safety rating;

5. Must not have any open enforcement actions (e.g., Imminent Hazard, Operations Out-of-Service (OOS) Orders, Patterns of Safety Violations) in the previous 6 years;

6. Must not have a crash rate above the national average;

7. Must not have a driver OOS rate above the national average; and

8. Must not have a vehicle OOS rate above the national average.

Enforcement actions resulting in civil penalties will be reviewed on a case-by-case basis. In addition, unpaid civil penalties may be grounds to deny participation in the pilot program.

Approval for participation in the pilot program will also be dependent on the motor carrier's agreement to comply with all pilot program procedures, including the monthly submission of data.

Approved motor carriers will be provided a letter acknowledging FMCSA's approval, the carrier's acceptance into the pilot program, and the company's exemption to allow approved apprentices to operate in interstate commerce. Approved motor carriers will be publicly announced on the Agency's website to encourage potential apprentices to apply through the identified carriers for participation.

FMCSA will monitor motor carrier and driver performance throughout the pilot program to ensure safety. Motor carriers may be disqualified from the pilot program at any time if the:

1. Carrier does not maintain proper operating authority, if required, and registration;

2. Carrier does not maintain the required minimum levels of financial responsibility;

3. Carrier is prioritized as a high risk;

4. Carrier is prioritized as a moderate risk for 2 consecutive months;

5. Carrier receives a conditional or unsatisfactory safety rating;

6. Carrier is the subject of an open Federal enforcement action pending review (e.g., Imminent Hazard, Operations OOS Orders, Patterns of Safety Violations). Enforcement actions resulting in civil penalties will be reviewed on a case-by-case basis.

7. For the last full calendar year, carrier has a crash rate (per million vehicle miles traveled) above the national average;

8. Carrier has a driver OOS rate above the national average for 3 consecutive months;

9. Carrier has a vehicle OOS rate above the national average for 3 consecutive months; or

10. Carrier failed to report monthly data as required.

FMCSA reserves the right to remove a carrier from the program at its discretion if it is determined there is a safety risk.

Establishment of Apprenticeship Program

As required by section 23022 of IIJA and as a condition of participating in the Safe Driver Apprenticeship Pilot Program, approved motor carriers must also establish an apprenticeship program. The apprenticeship program must consist of a 120-hour probationary period and a 280-hour probationary period for apprentice drivers. Nothing in this notice prevents an employer from imposing additional requirements on an apprentice.

120-Hour Probationary Period

During the 120-hour probationary period, the employing motor carrier must ensure the apprentice:

1. Completes 120 hours of on-duty time, of which not less than 80 hours shall be driving time in a CMV; and

2. Is competent in each of the following areas: Interstate, city traffic, rural 2-lane, and evening driving; safety awareness; speed and space management; lane control; mirror scanning; right and left turns; and logging and complying with rules relating to hours of service.

280-Hour Probationary Period

After the 120-hour probationary period, the motor carrier must ensure the apprentice completes a 280-hour probationary period. The employing motor carrier must ensure the apprentice:

1. Completes 280 hours of on-duty time, of which not less than 160 hours shall be driving time in a CMV; and

2. Is competent in each of the following areas: Backing and maneuvering in close quarters; pre-trip inspections; fueling procedures; weighing loads, weight distribution, and sliding tandems; coupling and uncoupling procedures; and trip planning, truck routes, map reading, navigation, and permits.

CMV Technologies

During both the 120-hour probationary period and the 280-hour probationary period, the employing motor carrier must ensure the apprentice only drives a CMV that has an automatic manual or automatic transmission; an active braking collision mitigation system; a forward-facing video event capture system; and a governed speed of 65 miles per hour at the pedal and under adaptive cruise control. In addition, the apprentice must be accompanied in the passenger seat of the CMV by an experienced driver. Nothing in the notice prevents an employer from requiring or installing additional technologies in a CMV.

Records Retention

The employing motor carrier must maintain records relating to the satisfaction of the performance benchmarks for each apprentice that is in the Safe Driver Apprenticeship Pilot Program.

Apprentice Prohibitions

The employing motor carrier must ensure that the apprentice does not transport passengers or hazardous materials, or operate double- or triple-trailer combinations or cargo tank vehicles while participating in the Safe Driver Apprenticeship Pilot Program, regardless of any license endorsements held.

Reportable Incidents

As outlined in section 23022 of BIL, the employing motor carrier must ensure that, if an apprentice is involved in a reportable, preventable crash or receives a pointed moving violation while driving a CMV, the apprentice will undergo remediation and additional training until the apprentice can demonstrate, to the satisfaction of the motor carrier, competence in each of the performance benchmarks. The extent of remediation and additional training will be left to the discretion of the employing motor carrier. FMCSA will clarify the standards for remediation and additional training on its website once the Agency begins accepting applications for the pilot program.

Registering an Apprenticeship Program With the DOL

Employing motor carriers that are approved to participate in the Safe Driver Apprenticeship Pilot Program must also register an apprenticeship program with the DOL, in accordance with the regulations found at 29 CFR part 29. If an employing motor carrier already has a registered apprenticeship program with the DOL, the motor carrier must ensure it meets the requirements for the Safe Driver Apprenticeship Pilot Program and maintains requirements for DOL's Registered Apprenticeship Program.

Apprentice Requirements

Drivers of CMVs, as defined in 49 CFR 383.5 and 390.5T, engaged in interstate commerce, must be at least 21 years of age (§ 391.11(b)(1)). An 18-year-old commercial CLP or CDL holder may drive in intrastate commerce only.

An apprentice that participates in the Safe Driver Apprenticeship Pilot Program will be provided relief from sections of 49 CFR parts 383 and 391 concerning minimum age requirements. Specifically, FMCSA will provide relief from the effect of the intrastate only (or “K”) restriction that appears on a CDL in accordance with § 383.153(a)(10)(vii) and an exemption from the requirement in § 391.11(b)(1) that a CMV driver operating in interstate commerce be at least 21 years of age.

An apprentice may drive a CMV in interstate commerce while participating in the 120-hour probationary period or the 280-hour probationary period under the Safe Driver Apprenticeship Pilot Program so long as an experienced driver accompanies them in the passenger seat of the CMV.

An apprentice may drive a CMV in interstate commerce after the apprentice completes the 120-hour probationary period and the 280-hour probationary period; however, the apprentice is still considered to be participating in the Safe Driver Apprenticeship Pilot Program, and their safety performance must continue to be monitored by the employing motor carrier, including monthly safety performance reports filed with FMCSA, until the driver reaches the age of 21.

An apprentice may not participate in the Safe Driver Apprenticeship Pilot Program if during the 2-year period immediately preceding the date of hire, the driver:

1. Had more than one license (except for a military license);

2. Had his or her license suspended, revoked, cancelled or disqualified for a violation related to 49 CFR 383.51 in any State;

3. Had any conviction for a violation of military, State, or local law relating to motor vehicle traffic control (other than parking violation) arising in connection with any traffic crash and have no record of a crash in which he/she was at fault; or

4. Had been convicted of any violations described below in any type of motor vehicle:

a. Had been under the influence of alcohol as prescribed by State law;

b. Had been under the influence of a controlled substance;

c. Had an alcohol concentration of 0.04 or greater while operating a CMV;

d. Refused to take an alcohol test as required by a State under its implied consent laws or regulations as defined in 49 CFR 383.72;

e. Left the scene of a crash;

f. Used the vehicle to commit a felony;

g. Drove a CMV while his or her CDL is revoked, suspended, cancelled; or he or she is disqualified from operating a CMV;

h. Caused a fatality through the negligent operation of a CMV (including motor vehicle manslaughter, homicide by motor vehicle, or negligent homicide);

i. Had more than one conviction for any of the violations described below in any type of motor vehicle;

—Drove recklessly, as defined by State or local law or regulation (including offenses of driving a motor vehicle in willful or wanton disregard for the safety of persons or property);

—Drove a CMV without the required CDL;

—Violated a State or local law or ordinance on motor vehicle traffic control prohibiting texting while driving; or

—Violated a State or local law or ordinance on motor vehicle traffic control restricting or prohibiting the use of a hand held mobile telephone while driving.

The apprentice must also agree to the release of specific information by their employing motor carrier, to FMCSA for purposes of the pilot program; meet all FMCSR requirements (except age) for operating a CMV in interstate commerce; operate primarily in interstate commerce; and, if selected; maintain a good driving record (e.g., free of any § 383.51 violations).

If at any time while participating in this pilot program, an apprentice is disqualified for a major offense, serious traffic violations, railroad-highway grade crossing violation, or violation of an out-of-service order, as outlined in 49 CFR 383.51 of the FMCSRs, he or she will be disqualified and removed from the program.

An apprentice may not transport passengers or hazardous materials, or operate double- or triple-trailer combinations or cargo tank vehicles while participating in the pilot program, regardless of any license endorsements held.

If a driver reaches age 21 during the pilot program, the driver will no longer be considered an apprentice. If an apprentice leaves an approved motor carrier during the pilot program, he or she is not approved to operate in interstate commerce unless re-employed with another approved motor carrier participating in the pilot program. A new apprentice application must be submitted for any new or additional hires by the approved motor carrier so that FMCSA can verify eligibility as part of the Agency's oversight of the pilot program.

Other Requirements and Information

FMCSA will prioritize approval of carriers to participate and continue based on these carriers' safety performance records over time, selecting only those with the highest or best relative performance.

Comparison Groups

FMCSA will compare the safety performance data of 18-, 19-, and 20-year-old intrastate drivers to known safety performance of intrastate drivers and interstate drivers. FMCSA will use existing data from FMCSA systems to compare current safety and performance of CMV operators to the safety and performance of apprentices participating in the pilot program. Additionally, FMCSA will analyze the performance of apprentices before, during, and after their probationary periods.

Monitoring and Oversight

FMCSA will review both monthly data submitted by approved motor carriers and its own databases including, but not limited to, the Motor Carrier Management Information System, Safety Measurement System, CDL Information System, the Licensing and Insurance system, and the Drug and Alcohol Clearinghouse. FMCSA reserves the right to remove any motor carrier or driver from the pilot program for reasons including, but not limited to, failing to meet any of the requirements of the program.

Length and Termination of Pilot Program

Under 49 CFR part 381, FMCSA can continue the pilot program for up to 3 years, but may conclude the program sooner if there is sufficient data to analyze the safety of the pilot program drivers or if there is reason to believe the program is not achieving an equivalent level of safety that would be achieved by complying with the regulations. Additionally, the BIL requires that on the date that is 3 years after the date of establishment of the pilot program, FMCSA will terminate the program. At that time, any driver under the age of 21 who has completed an apprenticeship program may continue to drive a CMV in interstate commerce until turning 21, unless it is determined a safety concern exists.

Meera Joshi,
Deputy Administrator.

[FR Doc. 2022-00733 Filed 1-13-22; 8:45 am]

BILLING CODE 4910-EX-P